INTERNATIONAL TRADE COMMISSION

[Investigation No. 337-TA-1379]

Certain Video Capable Electronic Devices, Including Computers, Streaming Devices, Televisions, Cameras, and Components and Modules Thereof; Notice of a Commission Determination To Ratify the Prior Commission Actions in This Investigation and To Grant a Joint Motion To Terminate the Investigation on the Basis of Settlement; Termination of the Investigation

AGENCY: U.S. International Trade Commission.

ACTION: Notice.

SUMMARY: Notice is hereby given that the U.S. International Trade Commission (“Commission”) has determined to ratify the prior Commission actions in this investigation and to grant a joint motion to terminate the investigation in its entirety based on settlement and patent agreements.

FOR FURTHER INFORMATION CONTACT: Joelle Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 6, 2023, based on a complaint filed by Nokia Technologies Oy and Nokia Corporation, both of Espoo, Finland (collectively, “Complainants” or “Nokia”). 88 FR 84832-33 (Dec. 6, 2023). The complaint, as supplemented, alleges violations of section 337 of the Tariff Act of 1930, as amended, 19 U.S.C. 1337, in the importation into the United States, the sale for importation, or the sale within the United States after importation of certain video capable electronic devices, including computers, streaming devices, televisions, cameras, and components and modules thereof by reason of infringement of claims 1-3, 6, 7, 9-12, 15-17, 20-25, 28-30, 32-34, 36, 39-41, 43, 44, 47-49, 51-54, 58-60, and 62-65 of U.S. Patent No. 7,532,808 (“the '808 patent”) and claims 1-22 of U.S. Patent No. 8,204,134. (“the '134 patent”). Id. at 84832. The complaint further alleges that a domestic industry exists. Id. The Commission's notice of investigation named as respondents HP, Inc. of Palo Alto, California; and Amazon.com, Inc. and Amazon.com Services LLC, both of Seattle, Washington (collectively, “Respondents”). Id. The Office of Unfair Import Investigations (“OUII”) is participating in the investigation. Id.

The Commission previously determined not to review initial determinations terminating the investigation as to claims 2, 3, 6, 9, 11, 12, 15, 17, 20, 23-25, 28, 30, 32-34, 36, 39, 41, 43, 44, 47, 49, 51-54, 58-60, and 62-65 of the '808 patent and claims 1-8, 10, 12, and 16-22 of the '134 patent. See Order No. 20 (Feb. 2, 2024), unreviewed by Comm'n Notice (Feb. 15, 2024); Order No. 44 (June 11, 2024), unreviewed by Comm'n Notice (July 3, 2024); Order No. 52 (July 10, 2024), unreviewed by Comm'n Notice (Aug. 5, 2024).

On January 29, 2025, the ALJ issued the Final ID finding a violation of section 337 by Amazon with respect to the '808 patent, and no violation with respect to the '134 patent. The ALJ also issued a recommended determination on the public interest, remedy, and bond.

On February 10, 2025, each party filed a petition for review. On February 18, 2025, Nokia and Amazon filed responses opposing each other's petitions. That same day, OUII filed a combined opposition to Nokia's and Amazon's petitions; neither Amazon nor Nokia responded to OUII's petition.

On April 1, 2025, Nokia and Amazon filed a Joint Unopposed Motion for Temporary Suspension of Pending Deadlines. The motion stated that Nokia and Amazon had signed a settlement agreement resolving all issues between the parties related to this litigation but needed additional time to finalize and file termination papers, including creating a public version of the settlement agreement as required by 19 CFR 210.21(b)(1). The parties requested that the Commission temporarily suspend the pending deadlines in the investigation until and through April 8, 2025. The Commission granted the motion, stayed the investigation, and extended the target date for determining whether to review the Final ID to April 22, 2025.

On April 8, 2025, Nokia and Amazon filed a Joint Motion to Terminate the Investigation in Its Entirety Based on Settlement and Patent Agreements. The parties submitted the executed settlement and patent agreements as exhibits to the motion. Public versions of the executed settlement and patent agreements were also submitted as exhibits to the motion. On April 11, 2025, OUII filed a response to the motion, indicating OUII supported granting the motion provided that the private parties revised the redactions to the public version of the patent agreement attached as Exhibit 2 to the motion. On April 16, 2025, the private parties submitted an Amended Public Exhibit 2 that “complies with [OUII's] recommendation.”

Before reaching the merits of the private parties' motion, in an abundance of caution, the Commission, after having fully reviewed the underlying facts and decisions, has determined to ratify all prior Commission actions taken in this investigation, including but not limited to its determination to institute this investigation, the delegation of this investigation to the ALJ for appropriate proceedings, initial determinations, and findings on the public interest, the naming of OUII as a party to this investigation, and the Commission's prior determinations declining to review the initial determinations of the presiding ALJ regarding termination of claims, extending the target date, and the termination of HP as a respondent. 88 FR 84832-33 (Dec. 6, 2023); Comm'n Notice (Feb. 15, 2024); Comm'n Notice (July 3, 2024); Comm'n Notice (Aug. 5, 2024); Comm'n Notice (Jan. 6, 2025); Comm'n Notice (Jan. 6, 2025); Comm'n Notice (Jan. 27, 2025); (Mar. 28, 2025); (April 3, 2025). Advanced Disposal Services East, Inc. v. N.L.R.B., 820 F.3d 592, 602-06 (3d Cir. 2016). Amazon does not dispute that the Commission currently has quorum under its statute, 19 U.S.C. 1330(c)(6).

The Commission has determined that the motion, including the revised public version of the settlement agreement, complies with the requirements of Commission Rule 210.21(b)(1) (19 CFR 210.21(b)(1)), and that there are no extraordinary circumstances that would prevent the requested termination. The Commission also finds that granting the motion would not be contrary to the public interest pursuant to Commission Rule 210.50(b)(2) (19 CFR 210.50(b)(2)). Accordingly, the Commission hereby grants the motion.

This investigation is terminated.

The Commission vote for this determination took place on April 22, 2025.

The authority for the Commission's determination is contained in section 337 of the Tariff Act of 1930, as amended (19 U.S.C. 1337), and in Part 210 of the Commission's Rules of Practice and Procedure (19 CFR part 210).

By order of the Commission.
Issued: April 22, 2025.
Lisa Barton,
Secretary to the Commission.

[FR Doc. 2025-07169 Filed 4-24-25; 8:45 am]

BILLING CODE 7020-02-P